DEPARTMENT OF AGRICULTURE

Agricultural Marketing Service

[Document Number AMS-SC-17-0015]

Fruit and Vegetable Industry Advisory Committee (FVIAC): Notice of Intent To Renew Charter and Call for Nominations

AGENCY: Agricultural Marketing Service, USDA.

ACTION: Notice: intent to renew charter and call for nominations.

SUMMARY: The Fruit and Vegetable Industry Advisory Committee (FVIAC) was established to examine the full spectrum of fruit and vegetable issues and provide recommendations and ideas to the Secretary of Agriculture on how the U.S. Department of Agriculture (USDA) can tailor programs to better meet the needs of the fruit and vegetable industry. Through this Notice, USDA is announcing the following: Its intent to renew the Charter of the FVIAC, which expires on July 28, 2017; its call for nominations to fill ten (10) upcoming vacancies for appointments in 2017, and its call for nominations for a pool of candidates to fill future unexpected vacancies in any of the position categories should that occur.

DATES: The current FVIAC Charter expires on July 28, 2017. Written nominations must be postmarked on or before September 1, 2017.

ADDRESSES: Nomination applications can be sent via email to Marlene Betts at Marlene.Betts@ams.usda.gov, or mailed to: USDA-AMS-SCP, 1400 Independence Avenue SW., Room 2077-S., Stop 0235, Washington, DC 20250-0235. Electronic submittals are preferred.

FOR FURTHER INFORMATION CONTACT: Marlene Betts, (202) 720-5057; Email: Marlene.Betts@ams.usda.gov.

SUPPLEMENTARY INFORMATION: Pursuant to the Federal Advisory Committee Act (FACA) (5 U.S.C. App. 2), notice is hereby given that the Secretary of Agriculture intends to renew the Fruit and Vegetable Industry Advisory Committee (FVIAC) for two years. The purpose of the FVIAC is to examine the full spectrum of issues faced by the fruit and vegetable industry and provide suggestions and ideas to the Secretary on how USDA can tailor its programs to better meet the fruit and vegetable industry's needs.

The Deputy Administrator of the Agricultural Marketing Service's Specialty Crops Program will serve as the FVIAC Executive Secretary. Representatives from USDA mission areas and agencies affecting the fruit and vegetable industry will be called upon to participate in the FVIAC's meetings as determined by the FVIAC Executive Secretary and the FVIAC.

Industry members are appointed by the Secretary of Agriculture and serve 2-year terms, with a maximum of three 2-year terms. Membership consists of 25 members who represent the fruit and vegetable industry and will include individuals representing fruit and vegetable growers/shippers, fruit and vegetable wholesalers/distributors, brokers, retailers/restaurant representatives, fresh-cut and other fruit and vegetable processors, and foodservice suppliers. It should also include individuals representing farmers markets and food hubs, organic and non-organic fruit and vegetable representatives, and representatives from state departments of agriculture, farmer organizations, and produce trade associations. Through this Notice, the USDA seeks to fulfill two goals. Firstly, it is seeking nominations to fill ten (10) upcoming vacancies. The Secretary of Agriculture will appoint one person to each of these ten positions to serve a 2-year term of office beginning August 1, 2017, and ending July 31, 2019. Secondly, the USDA is seeking nominations to fill future unexpected vacancies in any of the position categories. These nominations will be held as a pool of candidates that the Secretary of Agriculture can draw upon as replacement appointees if unexpected vacancies occur. A person appointed to fill a vacancy will serve for the remainder of the 2-year term of the vacant position.

The Secretary of Agriculture invites those individuals, organizations, and groups affiliated with the categories listed above to nominate individuals or themselves for membership on the FVIAC. Nominations should describe and document the proposed member's fruit and vegetable industry qualifications for membership to the FVIAC. The Secretary of Agriculture seeks a diverse group of members representing a broad spectrum of persons interested in providing suggestions and ideas on how USDA can tailor its programs to meet the fruit and vegetable industry's needs.

To nominate yourself or someone else, please submit the following: A resume (required), Form AD-755 (required), which can be accessed at: https://www.ams.usda.gov/about-ams/facas-advisory-councils/fviac/nominations, a cover letter, and a list of endorsements or letters of recommendation (optional). Resumes must be no longer than 5 pages, and should include a summary of the following information: Current and past organization affiliations; areas of expertise; education; career positions held; any other notable positions held.

Equal opportunity practices will be followed in all appointments to the FVIAC in accordance with USDA policies. To ensure that FVIAC recommendations take into account the needs of the diverse groups served by USDA, membership shall include, to the extent practicable, individuals with demonstrated ability to represent minorities, women, person with disabilities and limited resource agriculture producers.

The information collection requirements concerning the nomination process have been previously cleared by the Office of Management and Budget (OMB) under OMB Control No. 0505-0001.

Dated: July 27, 2017.
Bruce Summers,
Acting Administrator.

[FR Doc. 2017-16202 Filed 8-1-17; 8:45 am]

BILLING CODE 3410-02-P